DEPARTMENT OF COMMERCE

National Oceanic and Atmospheric Administration

RIN 0648-XD582

Pacific Fishery Management Council; Public Meeting

AGENCY: National Marine Fisheries Service (NMFS), National Oceanic and Atmospheric Administration (NOAA), Commerce.

ACTION: Notice; public meeting.

SUMMARY: The Pacific Fishery Management Council's (Pacific Council) Scientific and Statistical Committee Ecosystem Subcommittee (Subcommittee) will hold a meeting, which is open to the public.

DATES: The Subcommittee will meet Monday and Tuesday, December 15-16, 2014. The meeting will start at 9 a.m. each day and continue until business is completed on each day.

ADDRESSES:

Meeting address: The meeting will be held in the Conference Room in Building 1, National Oceanic and Atmospheric Administration, Western Regional Center, 7600 Sand Point Way NE., Seattle, WA 98115-6349.

Council address: Pacific Council, 7700 NE. Ambassador Place, Suite 101, Portland, OR 97220-1384.

FOR FURTHER INFORMATION CONTACT: Dr. Kit Dahl, Pacific Council; telephone: (503) 820-2280 or Dr. Martin Dorn, Alaska Fisheries Science Center; telephone: (206) 526-6548.

SUPPLEMENTARY INFORMATION: The Subcommittee will meet with the Integrated Ecosystem Assessment Team, Northwest Fisheries Science Center, National Marine Fisheries Service. The purpose of the meeting is to review the indicators used in the Annual State of the California Current Ecosystem Report, which is delivered to the Pacific Council each March, and consider how the report might be refined and improved.

Although non-emergency issues not contained in the meeting agenda may be discussed, those issues may not be the subject of formal action during the meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280 at least 5 days prior to the meeting date.

Dated: November 19, 2014.
Tracey L. Thompson,
Acting Deputy Director, Office of Sustainable Fisheries, National Marine Fisheries Service.

[FR Doc. 2014-27768 Filed 11-24-14; 8:45 am]

BILLING CODE 3510-22-P